Title 3—

The President

Proclamation 9495 of September 15, 2016

National POW/MIA Recognition Day, 2016

By the President of the United States of America

A Proclamation

For centuries, courageous members of our Armed Forces have embodied the best of America with devotion and patriotism. On National POW/MIA Recognition Day, we pause to remember our servicemen and women who never returned home. The hardship experienced by prisoners of war and by the family members of those who have gone missing in action is unimaginable to most Americans; it is our country's solemn obligation to bring these heroes back to the land they served to defend, and to support the families who, each day, carry on without knowing the peace of being reunited with their loved ones.

The United States does not leave anyone behind, and we do not forget those who remain missing. We will never stop working to bring home those who gave everything for their country, nor cease in our pursuit of the fullest possible accounting for all who are missing. We are working to fulfill this promise by strengthening communication with the families of those service members missing or taken prisoner. And as Commander in Chief, I am committed to living up to this responsibility.

The men and women of our Armed Forces face unthinkable conditions and bear the painful cost of war. Theirs is a debt we can never fully repay, though we will continue striving to remain worthy of their sacrifice. In honor of those who have not yet come home, and the families who struggle with the fear of unknown fate, we renew our fierce commitment to our patriots in uniform and pledge to do everything we can to bring those missing or held prisoner home.

On September 16, 2016, the stark black and white banner symbolizing America's Missing in Action and Prisoners of War will be flown over the White House; the United States Capitol; the Departments of State, Defense, and Veterans Affairs; the Selective Service System Headquarters; the World War II Memorial; the Korean War Veterans Memorial; the Vietnam Veterans Memorial; United States post offices; national cemeteries; and other locations across our country. We raise this flag as a solemn reminder of our obligation to always remember the sacrifices made to defend our Nation.

NOW, THEREFORE, I, BARACK OBAMA, President of the United States of America, by virtue of the authority vested in me by the Constitution and the laws of the United States, do hereby proclaim September 16, 2016, as National POW/MIA Recognition Day. I urge all Americans to observe this day of honor and remembrance with appropriate ceremonies and activities.

IN WITNESS WHEREOF, I have hereunto set my hand this fifteenth day of September, in the year of our Lord two thousand sixteen, and of the Independence of the United States of America the two hundred and forty-first.

[FR Doc. 2016-22828

Filed 9-19-16; 11:15 am]

Billing code 3295-F6-P